DEPARTMENT OF HEALTH AND HUMAN SERVICES

National Institutes of Health

Eunice Kennedy Shriver National Institute of Child Health & Human Development; Amended Notice of Meeting

Notice is hereby given of a change in the meeting of the Eunice Kennedy Shriver National Institute of Child Health and Human Development Initial Review Group, Population Sciences Study Section, October 25, 2024, 09:00 a.m. to 05:00 p.m., Hyatt Regency Bethesda, 7400 Wisconsin Avenue, Bethesda, MD 20814, which was published in the Federal Register on June 17, 2024, FR Doc. No. 2024-13310, 89 FR 51537.

This notice is being amended to change the start time of the meeting from 9:00 a.m. to 10:00 a.m. E.T. The meeting is closed to the public.

Dated: September 18, 2024.
Lauren A. Fleck,
Program Analyst, Office of Federal Advisory Committee Policy.

[FR Doc. 2024-21662 Filed 9-20-24; 8:45 am]

BILLING CODE 4140-01-P